DEPARTMENT OF AGRICULTURE

Submission for OMB Review; Comment Request

August 3, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 8, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Turnip the Beet! High Quality Summer Meals Program.

OMB Control Number: 0584-NEW.

Summary of Collection: Turnip the Beet is a voluntary award program to recognize participating sponsoring organizations (sponsors) in the Summer Food Service Program (SFSP) or the National School Lunch Program (NSLP) Seamless Summer Option (SSO) that work hard to offer high quality, nutritious meals during the summer months. The SFSP is administered through sponsoring organizations that host meal sites in a wide variety of settings, while the SSO is administered through sponsoring school districts, offering an opportunity for the districts to provide a seamless transition between school meals and summer meals. Turnip the Beet is a tool to motivate summer meal sponsors to go above and beyond basic regulatory requirements for the respective program meal patterns. This voluntary information collection is authorized under 42 U.S.C. 1761 Richard B. Russell National School Lunch Act.

Need and Use of the Information: The information needed to process the voluntary award nominations is collected from State Program Staff and Businesses (SFSP or NSLP/SSO Program Sponsors). Sponsors can submit nomination packets to the State Agencies, who verify that the packet is complete. The State Agencies then forward the nominations to FNS who score the nominations to determine the award winners. The nomination process allows FNS to accurately assess the quality of meal service in order to determine whether the individual sponsor qualifies for Turnip the Beet recognition. The Turnip the Beet award encourages sponsoring organizations to think creatively and strive for best practices in their summer meals, thereby improving children's access to nutritious, well-balanced meals. This allows FNS to administer summer meal programs that serve the needs of communities nationwide, placing an increased emphasis on the health of children without adding regulatory requirements for the meals.

Description of Respondents: State, Local, or Tribal Government; and Profit/Non-Profit Businesses.

Number of Respondents: 186.

Frequency of Responses: Reporting: Annually.

Total Burden Hours: 225.

Ruth Brown,
Departmental Information Collection Clearance Officer.

[FR Doc. 2020-17149 Filed 8-5-20; 8:45 am]

BILLING CODE 3410-30-P